DEPARTMENT OF AGRICULTURE

Agricultural Marketing Service

[Docket No. AMS-LS-08-0012]

Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request a revision to the currently approved collections for 7 CFR Part 54—Meats, Prepared Meats, and Meat Products (Grading, Certification, and Standards), which includes Form LS-313, “Application for Service,” Form LS-315, and “Application for Commitment Grading or Certification Service”.

DATES: Comments on this notice must be received on or before April 25, 2008.

ADDRESSES: Interested persons are invited to submit comments. Comments must be posted online at www.regulations.gov or sent to Larry R. Meadows, Chief; USDA, AMS, LS, MGC; 13952 Denver West Parkway Building 53, Suite 350, Lakewood, Colorado 80401. Comments will be available for public inspection at the above address during regular business hours or via the Internet at www.regulations.gov. All comments should reference the docket number (Docket No. AMS-LS-08-0012), the date, and the page number of this issue of the Federal Register. All responses to this notice will be summarized and included in the request for OMB approval.

SUPPLEMENTARY INFORMATION Title: 7 CFR Part 54—Meats, Prepared Meats, and Meat Products (Grading, Certification, and Standards).

OMB Number: 0581-0124.

Expiration Date of Approval: August 31, 2008.

Type of Request: Revision of a currently approved collection of information.

Abstract: The application for meat grading and certification services requests the Department of Agriculture (USDA) employees to perform such services in the requesting establishment. The information contained on the applications constitutes an agreement between USDA and the requesting establishment.

The Agricultural Marketing Act of 1946, as amended, authorizes the Secretary of Agriculture to provide voluntary Federal meat grading and certification services that facilitate the marketing of meat and meat products. The Meat Grading and Certification (MGC) Branch provides these services pursuant to 7 CFR Part 54—Meats, Prepared Meats, and Meat Products (Grading, Certification, and Standards).

Due to the voluntary nature of grading and certification services, 7 CFR Part 54 contains provisions for the collection of fees from users of MGC Branch services that equal the cost of providing the requested services to the closest extent possible. Applicants (individual or businesses with financial interest in the product) may request MGC Branch services through either submission of Form LS-313 or Form LS-315.

Congress did not specifically authorize this collection of information, but completion and submission of Form LS-313 or Form LS-315 serves as an agreement by the requester to pay for services provided.

Estimate of Burden: Public reporting burden for this collection of information is estimated to average .21 hours per response.

Respondents: Livestock and meat industry or other for-profit businesses.

Estimated Number of Respondents: 951 respondents.

Estimated Number of Responses: 6,666 responses.

Estimated Number of Responses per Respondent: 7 responses.

Estimated Total Annual Burden on Respondents: 1,391 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including through the use of appropriate automated, electronic, mechanical, or other technological collection techniques or other forms of information technology.

FOR FURTHER INFORMATION CONTACT: Larry R. Meadows, Chief, Meat Grading and Certification Branch, telephone (720) 497-2550, facsimile (720) 497-0569, or e-mail at Larry.Meadows@usda.gov.

Dated: February 19, 2008.
Lloyd C. Day,
Administrator, Agricultural Marketing Service.

[FR Doc. E8-3496 Filed 2-22-08; 8:45 am]

BILLING CODE 3410-02-P